DEPARTMENT OF COMMERCE

Foreign-Trade Zones Board

[Docket 1-2010]

Foreign-Trade Zone 176—Rockford, IL; Application for Reorganization/Expansion Under Alternative Site Framework

An application has been submitted to the Foreign-Trade Zones (FTZ) Board (the Board) by the Greater Rockford Airport Authority, grantee of Foreign-Trade Zone 176, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u) and the regulations of the Board (15 CFR part 400). It was formally filed January 6, 2010.

FTZ 176 was approved by the Board on March 1, 1991 (Board Order 511, 56 FR 10409, 3/12/91) and expanded on February 9, 2005 (Board Order 1368, 70 FR 9613, 2/28/05), August 3, 2006 (Board Order 1473, 71 FR 47483, 8/17/06 and on January 30, 2009 (Board Order 1603, 74 FR 6570, 2/10/09). The general-purpose zone currently consists of the following sites: Site 1: (1,308 acres)—seven parcels located in and around the Chicago Rockford International Airport (including the airport property, existing and planned warehouse and distribution facilities, and the City Logistics Park) and a parcel located at 1635 New Milford School Road/1129 18th Avenue, Rockford; Site 3: (566 acres) CenterPoint Industrial Park (366 acres), located at the intersection of Route 38 and Brush Grove Road, and Interstate Transportation Center Industrial Park (200 acres), located on the west side of State Highway 38, Rockford; Site 4: (304 acres) ProLogis Center, located at the southwest corner of Interstate 39 and Interstate 88, Rochelle; Site 6: (74 acres) Rolling Hills Industrial Park, located at 2200 Lakeshore Drive, Woodstock; Site 7: (133 acres) Crossroads Commerce Center, located at Interstate 88 and Main Street, Rochelle; Site 8: (8 acres, 2 parcels) Abilities Center, located at 1907 Kishwaukee Street, and Counselor Scale Building, located at 2000/2100 South Kishwaukee Street, Rockford; Site 9: (16 acres) former Essex Wire Plant, located 2816 North Main Street, Rockford; Site 10: (867 acres, 2 parcels) Park 88 Industrial Park, located at Peace Road and Fairview Drive and at the southwest corner of Peace Road and Gurler Road, DeKalb; Site 11: (46 acres) Loves Park Corporate Center, located at Bell School Road and Riverside Drive, Loves Park; and, Site 12: (296 acres) Rock 39 Industrial Park, located on Baxter Road, east of Route 39 and west of Mulford Road, Cherry Valley, Illinois. Site 7 is subject to a sunset provision that would terminate authority on September 1, 2011 and Sites 8-12 are subject to a sunset provision that would terminate authority on January 31, 2014 where no activity has occurred under FTZ procedures before those dates.

The grantee's proposed service area under the ASF would be Winnebago, Stephenson, Ogle, Lee, DeKalb, and Boone Counties, and portions of Bureau, McHenry and Kane Counties, Illinois. If approved, the grantee would be able to serve sites throughout the service area based on companies' needs for FTZ designation. The proposed service area is within and adjacent to the Rockford Customs and Border Protection port of entry.

The applicant is requesting authority to reorganize its existing zone project to include all of the sites as “magnet sites” and 40 acres of Site 4 would be deleted due to changed circumstances.

In accordance with the Board's regulations, Claudia Hausler of the FTZ Staff is designated examiner to evaluate and analyze the facts and information presented in the application and case record and to report findings and recommendations to the Board.

Public comment is invited from interested parties. Submissions (original and 3 copies) shall be addressed to the Board's Executive Secretary at the address below. The closing period for their receipt is March 16, 2010. Rebuttal comments in response to material submitted during the foregoing period may be submitted during the subsequent 15-day period to March 31, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Claudia Hausler at Claudia.Hausler@trade.gov or (202) 482-1379.

Dated: January 7, 2010.
Andrew McGilvray,
Executive Secretary.

[FR Doc. 2010-746 Filed 1-14-10; 8:45 am]

BILLING CODE P